INTERNATIONAL TRADE COMMISSION

[USITC SE-19-020]

Sunshine Act Meetings

AGENCY HOLDING THE MEETING: United States International Trade Commission.

TIME AND DATE: June 6, 2019 at 9:45 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-622 and 731-TA-1448 (Preliminary) (Dried Tart Cherries from Turkey). The Commission is currently scheduled to complete and file its determinations on June 7, 2019; views of the Commission are currently scheduled to be completed and filed on June 14, 2019.

5. Outstanding action jackets: None.

In accordance with Commission policy, subject matter listed above, not disposed of at the scheduled meeting, may be carried over to the agenda of the following meeting.

By order of the Commission.
Issued: May 31, 2019.
William Bishop,
Supervisory Hearings and Information Officer.

[FR Doc. 2019-11843 Filed 6-3-19; 11:15 am]

BILLING CODE 7020-02-P